DEPARTMENT OF THE INTERIOR

Notice of Intent To Discontinue Preparation of an Environmental Assessment for the Conversion of a Portion of Strawberry Valley Project Water from Irrigation to Municipal and Industrial Use

AGENCY: Office of the Assistant Secretary—Water and Science, Department of the Interior.

ACTION: Notice of intent to discontinue preparation of an Environmental Assessment for the conversion of a portion of Strawberry Valley Project (SVP) water from irrigation to other beneficial uses including municipal and industrial (M&I) use.

SUMMARY: Recent discussions among the Department, Strawberry Water Users Association, and the South Utah Valley Municipal Water Association have resulted in a decision to terminate work on contracts to convert Strawberry Valley Project water from agricultural to municipal and industrial use. The Department has discontinued preparation of an Environmental Assessment intended to allow the conversion of SVP water from agricultural to municipal and industrial use. The Environmental Assessment was being prepared pursuant to the National Environmental Policy Act of 1969, and in accordance with a Federal Register notice published February 7, 2000, (Page 5880, Volume 65, Number 25).

The SUVMWA have determined to use alternate sources for municipal and industrial water instead of SVP water. The SWUA have determined to discontinue negotiations with the Department relative to the conversion of SVP water. As a result SVP water will continue to be used only for agricultural purposes and will only be available during the irrigation season.

FOR FURTHER INFORMATION CONTACT: Additional information on matters related to this Federal Register notice can be obtained at the address and telephone number set forth below: Mr. Reed Murray, CUP Completion Act Office, Department of the Interior, 302 East 1860 South, Provo UT 84606-6154, (801) 379-1237, rmurray@uc.usbr.gov.

Dated: December 1, 2000.
Ronald Johnston,
CUP Program Director, Department of the Interior.

[FR Doc. 00-31461 Filed 12-8-00; 8:45 am]

BILLING CODE 4310-RK-P